GOVERNMENT ACCOUNTABILITY OFFICE

Appointments to the Medicare Payment Advisory Commission

AGENCY: Government Accountability Office (GAO).

ACTION: Notice of appointments.

SUMMARY: The Balanced Budget Act of 1997 established the Medicare Payment Advisory Commission (MedPAC) and gave the Comptroller General responsibility for appointing its members. This notice announces three new appointments and two reappointments to fill the vacancies occurring this year.

DATES: Appointments are effective May 1, 2008 through April 30, 2011, except as noted.

ADDRESSES: GAO: 441 G Street, NW., Washington, DC 20548.

MedPAC: 601 New Jersey Avenue, NW., Suite 9000, Washington, DC 20001.

FOR MORE INFORMATION CONTACT: GAO: Office of Public Affairs, (202) 512-4800.

MedPAC: Mark E. Miller, Ph.D., (202) 220-3700.

SUPPLEMENTARY INFORMATION: To fill this year's vacancies I am announcing the following:

Newly appointed members are Peter W. Butler, M.H.S.A., Executive Vice President and Chief Operating Officer, Rush University Medical Center; Michael Chernew, Ph.D., professor, Department of Health Care Policy; and George N. Miller, Jr., M.H.S.A., Regional President and Chief Executive Officer, Community Mercy Health Partners.

Reappointed members are Jennie Chin Hansen, R.N., M.S.N., member, Board of Directors, AARP; and Nancy M. Kane, D.B.A., professor of management, Department of Health Policy Management, Harvard School of Public Health.

(Sec. 4022, Pub. L. 105-33, 111 Stat. 251, 350)

Gene L. Dodaro,
Acting Comptroller General of the United States.

[FR Doc. E8-12023 Filed 5-30-08; 8:45 am]

BILLING CODE 1610-02-M